DEPARTMENT OF TRANSPORTATION

Federal Aviation Administration

Notice of Intent of Waiver With Respect to Land

AGENCY: Federal Aviation Administration (FAA), DOT.

ACTION: Notice.

SUMMARY: The FAA is considering a proposal to change 55.4 acres of airport land from aeronautical use to non-aeronautical use and to authorize the sale of airport property Rantoul National Aviation Center-Frank Elliott Field, Rantoul, Illinois. The aforementioned land is not needed for aeronautical use. The parcels are located east of Pacesetter Drive and Galaxy Drive on Rantoul National Aviation Center-Frank Elliott Field. The Village of Rantoul has determined that the parcels are no longer needed for the direct operations of the airport.

DATES: Comments must be received on or before October 26, 2018.

ADDRESSES: Documents are available for review by appointment at the FAA Chicago Airports District Office, Gary Wilson, Program Manager, 2300 East Devon Avenue, Des Plaines, IL 60018, Telephone: (847) 294-7631/Fax: (847) 294-7046 and Eric Vences, Rantoul National Aviation Center-Elliott Field, 6 Aviation Center Drive (217) 892-6896. Written comments on the Sponsor's request must be delivered or mailed to: Gary Wilson, Program Manager, Federal Aviation Administration, Program Manager, Chicago Airports District Office, 2300 E Devon Avenue, Des Plaines, IL 60018, Telephone Number: (847) 294-7631/FAX Number: (847) 294-7631.

FOR FURTHER INFORMATION CONTACT: Gary Wilson, Program Manager, Federal Aviation Administration, Chicago Airports District Office, 2300 E Devon Avenue, Des Plaines, IL 60018. Telephone Number: (847) 294-7631/FAX Number: (847) 294-7046.

SUPPLEMENTARY INFORMATION: In accordance with section 47107(h) of Title 49, United States Code, this notice is required to be published in the Federal Register 30 days before modifying the land-use assurance that requires the property to be used for an aeronautical purpose. The parcels were transferred to the Village of Rantoul in quitclaim deeds dated July 12, 2007, July 23, 2017, July 9, 2018 and August 17, 2018 under and pursuant to the powers and authority contained in the Base Closure and Realignment Act of 1988 and 1990, as amended. The transfer documents included the National Emergency Use Provision (NEUP). The Village of Rantoul signed a purchase agreement for the parcels which exceeds their fair market value. The revenue received from the sale of this land will be used towards the operation and maintenance of the airport.

The disposition of proceeds from the sale of the airport property will be in accordance with FAA's Policy and Procedures Concerning the Use of Airport Revenue, published in the Federal Register on February 16, 1999 (64 FR 7696).

This notice announces that the FAA is considering the release of the subject airport property at the Rantoul National Aviation Center-Frank Elliott Field, Rantoul, Illinois from federal land covenants, subject to a reservation for continuing right of flight as well as restrictions on the released property as required in FAA Order 5190.6B section 22.16. Approval does not constitute a commitment by the FAA to financially assist in the disposal of the subject airport property nor a determination of eligibility for grant-in-aid funding from the FAA. FAA has requested the Department of Defense to concur in the release of the National Emergency Use Provision (NEUP) from the subject parcels.

Parcel A3a

A tract of land being a part of Section 2, Township 21 North, Range 9 East of the Third Principal Meridian, Champaign County, Illinois, described as follows: Beginning at a Rantoul Brass Monument found stamped “Rantoul Survey Monument IPLS 2280” found at intersection of the Southeasterly Right-of-Way Line of Galaxy Drive and the Northeasterly Right-of-Way line of Pacesetter Drive, said corner being Designated Point Number 288 and shown as such on Plat of Survey by David P. Phillippe, Illinois Professional Land Surveyor 2591, dated July 9, 2007 and recorded as Document Number 2007R22404 in the Recorder's Office of Champaign County, Illinois; thence North 44 Degrees 16 Minutes 24 Seconds East along the Southeasterly Right-of-Way Line of said Galaxy Drive, a distance of 756.86 feet to an Iron Pipe Survey Monument Set; thence South 45 Degrees 42 Minutes 05 Seconds East, a distance of 756.43 feet to an Iron Pipe Survey Monument Set; thence 44 Degrees 10 Minutes 19 Seconds West, a distance of 758.83 feet to an Iron Pipe Survey Monument Set; thence North 45 Degrees 33 Minutes 11 Seconds West, a distance of 757.78 feet to the Point of Beginning, encompassing 13.17 acres, more or less, situated in the Village of Rantoul, Champaign County, Illinois.

Parcel A3b

A tract of land being part of Section 11 and a part of Section 2 Township 21 North, Range 9 East of the Third Principal Meridian, Champaign County, Illinois, described as follows:

Commencing at a Rantoul Brass Monument found stamped “Rantoul Survey Monument IPLS 2280” found at the intersection of the Southeasterly Right-of-Way Line of Galaxy Drive and the Northeasterly Right-of-Way Line of Pacesetter Drive, said corner being designated Point Number 288 and shown as such on Plat of Survey by David P. Phillippe, Illinois Professional Land Surveyor 2591, dated July 9, 2007 and recorded as Document Number 2007R22404 in the Recorder's Office of Champaign County, Illinois; thence North 44 Degrees 16 Minutes 24 Seconds East along the Southeasterly Right-of-Way Line of said Galaxy Drive, a distance of 756.86 feet to an Iron Pipe Survey Monument Set; thence South 45 Degrees 42 Minutes 05 Seconds East, a distance of 836.43 feet to an Iron Pipe Survey Monument Set, at a Point of Beginning; thence continue South 45 Degrees 42 Minutes 05 Seconds East, a distance of 482.10 feet to an Iron Pipe Survey Monument Set; thence South 00 Degrees 32 Minutes 38 Seconds East, a distance of 628.97 feet to an Iron Pipe Survey Monument Set; thence South 44 Degrees 25 Minutes 02 Seconds West, a distance of 407.53 feet to an Iron Pipe Survey Monument Set; thence North 61 Degrees 03 Minutes 57 Seconds West, a distance of 197.21 feet to an Iron Pipe Survey Monument Set; thence North 45 Degrees 31 Minutes 42 Seconds West, a distance of 618.98 feet to an Iron Pipe Survey Monument Set on the Easterly Right of Way Line of Said pacesetter Drive; thence North 00 Degrees 30 Minutes 33 Seconds West along the Easterly Right of Way of said Pacesetter Drive, a distance of 161.61 feet to an Iron Pipe Survey Monument Set; thence North 44 Degrees 10 Minutes 19 Seconds East, a distance of 789.23 feet to the Point of Beginning, encompassing 16.67 acres, more or less, situated in the Village of Rantoul, Champaign County, Illinois.

A2c-8

A tract of land being part of Section 11 and a part of Section 2, Township 21 North, Range 9 East of the Third Principal Meridian, Champaign County, Illinois, described as follows:

Commencing at a Rantoul Brass Monument found stamped “Rantoul Survey Monument IPLS 2280” Found at the intersection of the Southeasterly Right of Way Line of Galaxy Drive and the Northeasterly Right-of-Way Line of Pacesetter Drive, said corner being designated Point Number 288 and shown as such on Plat of Survey by David P. Phillippe, Illinois Professional Land Surveyor 2591, dated July 9, 2007 and recorded as Document Number 2007R22404 in the Recorder's Office of Champaign County, Illinois; thence south 45 Degrees 33 Minutes 11 Seconds East along the Northeasterly Right of Way Line of said Pacesetter Drive, a distance of 807.77 feet to a Brass Monument stamped “Rantoul Survey Monument IPLS 2280” found at a bend point in the Right-of-Way of said Pacesetter Drive; thence South 00 Degrees 30 Minutes 33 Seconds East along the Easterly Right-of-Way Line of said Pacesetter Drive, a distance of 235.65 feet to a Brass Monument stamped “Rantoul Survey Monument IPLS 2280” Found at a bend point in the Right-of- Way of said Pacesetter Drive; thence south 44 Degrees 27 Minutes 02 Seconds West along the Southeasterly Right of Way Line of said Pacesetter Drive, a distance of 57.81 feet to an Iron Pipe Survey Monument Set at a point of beginning; thence South 45 Degrees 31 Minutes 42 Seconds East, a distance of 596.63 feet to an Iron Pipe Survey Monument Set; thence South 44 Degrees 35 Minutes 13 Seconds West, a distance of 643.44 feet to an Iron Pipe Survey Monument Set; thence around a circular curve concave to the North, having a radius of 100.00 feet, a chord length of 141.13 feet, a chord bearing South 89 Degrees 28 Minutes 04 Seconds West, for an arc length of 156.66 feet to an Iron Pipe Survey Monument Set on the Northeasterly Right-of-Way Line of Arends Boulevard; thence North 45 Degrees 39 Minutes 04 Seconds West along the Northeasterly Right-of-Way Line of said Arends Boulevard a distance of 495.28 feet to an Iron Pipe Survey Monument Set on the Southeasterly Right of Way Line of said Pacesetter Drive; thence North 44 Degrees 27 Minutes 02 Seconds East along the Southeasterly Right-of-Way Line of said Pacesetter Drive a distance of 744.31 feet to the point of beginning, encompassing 10.12 acres, more or less, situated in the Village of Rantoul, Champaign County, Illinois.

A1b-4

A tract of land being a part of Section 2, Township 21 North, Range 9 East of the third Principal Meridian, Champaign County, Illinois, described as follows:

Commencing at a Rantoul Brass Monument found stamped “Rantoul Survey Monument IPLS 2280” found at the intersection of the Southeasterly Right-of-Way Line of Galaxy Drive and the Northeasterly Right-of-Way Line of Pacesetter Drive, said corner being designated point number 288 and shown as such on Plat of Survey by David P. Phillippe, Illinois Professional Land Surveyor 2591, dated July 9, 2007 and recorded as Document Number 2007R22404 in the recorder's office of Champaign County, Illinois; thence North 44 Degrees 16 Minutes 24 Seconds East along the Southeasterly Right-of-Way Line of said Galaxy Drive, a distance of 836.86 feet to an Iron Pipe Survey Monument set at a point of beginning; thence continue North 44 Degrees 16 Minutes 24 Seconds East along the Southeasterly Right-of-Way Line of said Galaxy Drive, a distance of 469.02 feet to an Iron Pipe Survey Monument set; thence south 45 Degrees 33 Minutes 16 Seconds East, a distance of 280.24 feet to an Iron Pipe Survey Monument set; thence North 44 Degrees 16 Minutes 24 Seconds East, a distance of 63.56 feet to an Iron Pipe Survey Monument set; thence South 45 Degrees 33 Minutes 16 Seconds East, a distance of 479.91 feet to an Iron Pipe Survey Monument Set; thence South 02 Degrees 49 Minutes 35 Seconds West, a distance of 425.87 feet to an Iron Pipe Survey Monument set; thence south 44 degrees 35 minutes 26 seconds west, a distance of 105.41 feet to an iron pipe Survey Monument set; thence around a circular curve concave to the East, having a radius of 120.00 feet, a chord length of 159.60 feet, a chord bearing South 04 Degrees 01 Minutes 12 Seconds East for an arc length of 174.60 feet to an Iron Pipe Survey Monument set; thence North 45 Degrees 42 Minutes 05 Seconds West, a distance of 1,160.61 feet to the point of beginning, encompassing 11.34 acres, more or less, situated in the Village of Rantoul, Champaign County, Illinois.

A1b-2:1

A tract of land being part of Section 11, Township 21 North, Range 9 East of the Third Principal Meridian, Champaign County, Illinois, described as follows:

Commencing at a Rantoul Brass Monument found stamped “Rantoul Survey Monument IPLS 2280” found at the intersection of the Southeasterly Right-of-Way Line of Galaxy Drive and the Northeasterly Right-of-Way Line of Pacesetter Drive, said corner being designated point number 288 and shown as such on Plat of Survey by David P. Phillippe, Illinois Professional Land Surveyor 2591, dated July 9, 2007 and recorded as Document Number 2007R22404 in the recorder's office of Champaign County, Illinois; thence North 44 Degrees 16 Minutes 24 Seconds East along the Southeasterly Right-of-Way Line of said Galaxy Drive, a distance of 836 feet to an Iron Pipe Survey Monument Set; thence thence South 45 Degrees 42 Minutes 05 Seconds East, a distance of 1,305.88 feet to an Iron Pipe Survey Monument set; thence South 00 Degrees 32 Minutes 38 Seconds East a distance of 695.34 feet to an Iron Pipe Survey Monument Set; Thence 44 Degrees 25 Minutes 02 Seconds West a distance of 1,225.29 feet, thence North 45 Degrees 25 Minutes 02 Seconds West, a distance of 80 feet to an Iron Pipe Survey Monument Set at a Point of Beginning; Thence continue North 45 Degrees 38 Minutes 48 Seconds West, a distance of 132 feet to an Iron Pipe Survey Monument Set, thence North 44 Degrees 35 Minutes 13 Seconds East, a distance of 306.46 to an Iron Pipe Survey Monument Set, thence South 45 Degrees 37 Minutes 27 Seconds East, a distance of 131.32 feet to an Iron Pipe Survey Monument set; thence South 44 Degrees 25 Minutes 02 Seconds West, a distance of 306.41 feet to the Point of Beginning, encompassing 0.93 acres, more or less, situated in the Village of Rantoul, Champaign County, Illinois.

A1b-3:1

A tract of land being part of Section 11, Township 21 North, Range 9 East of the third Principal Meridian, Champaign County, Illinois, described as follows:

Commencing at a Rantoul Brass Monument found stamped “Rantoul Survey Monument IPLS 2280” found at the intersection of the Southeasterly Right-of-way Line of Galaxy Drive and the Northeasterly Right-of-Way Line of Pacesetter Drive, said corner being Designated Point Number 288 and shown as such on Plat of Survey by David P. Phillippe, Illinois Professional Land Surveyor 2591, dated July 9, 2007 and recorded as Document Number 2007R22404 in the recorder's office of Champaign County, Illinois; thence North 44 Degrees 16 Minutes 24 Seconds east along the Southeasterly Right-of-Way Line of said Galaxy Drive, a distance of 836.86 feet to an Iron Pipe Survey Monument set; thence South 45 Degrees 42 Minutes 05 Seconds East, a distance of 1,351.83 feet to an Iron Pipe Survey Monument set; thence south 00 Degrees 32 Minutes 38 Seconds East, a distance of 695.34 feet to an Iron Pipe Survey Monument set; thence South 44 Degrees 25 Minutes 02 Seconds West, a distance of 1,225.29 feet; thence North 45 Degrees 38 Minutes 48 Seconds West, a distance of 80.00 feet to an Iron Pipe Survey Monument set at a point of beginning; thence continue North 45 Degrees 38 Minutes 48 Seconds West, a distance of 132.22 feet to an Iron Pipe Survey Monument set; thence north 44 Degrees 35 Minutes 13 Seconds East, a distance of 306.46 feet to an Iron Pipe Survey Monument set; thence South 45 Degrees 37 Minutes 27 Seconds East, a distance of 131.32 feet to an Iron Pipe Survey Monument set; thence South 44 Degrees 25 Minutes 02 seconds West, a distance of 306.41 feet to the point of beginning, encompassing 0.93 acres, more or less, situated in the Village of Rantoul, Champaign County, Illinois.

Issued in Des Plaines, Illinois, on September 17, 2018.
Deb Bartell,
Manager, Chicago Airports District Office, FAA, Great Lakes Region.

[FR Doc. 2018-20874 Filed 9-25-18; 8:45 am]

BILLING CODE 4910-13-P